DEPARTMENT OF ENERGY

Federal Energy Regulatory Commission

[Docket Nos. EC02-15-000, EC02-15-001, ER02-177-000, ER02-177-001, ER02-177-002]

Cinergy Services, Inc., Cinergy Corporation, The Cincinnati Gas & Electric Company, Cinergy Power Investments, PSI Energy, Inc.; Notice of Issuance of Order

March 20, 2002.

Cinergy Services, Inc. (Cinergy), on behalf of Cinergy Corporation and its affiliates, Cincinnati Gas & Electric Company, PSI Energy, Inc., and Cinergy Power Investments, Inc. (collectively, “Applicants”) made certain filings, in the above-docketed proceedings, with the Commission pursuant to Ohio restructuring legislation implementing customer choice and pursuant to three settlements that provide for the continuation of joint generation and dispatch and joint transmission planning among Cinergy affiliates. Applicants also filed under section 205 of the Federal Power Act various agreements, including a market-based rate tariff, related to their corporate reorganization. Applicants filings also requested certain waivers and authorizations. In particular, Applicants requested that the Commission grant blanket approval under 18 CFR part 34 of all future issuances of securities and assumptions of liabilities by Applicants.

On March 18, 2002, the Commission issued an Order Authorizing Transfer Of Assets, Granting Market-Based Rates And Accepting Related Agreements For Filing (Order) that granted Applicants request for blanket approval under Part 34, subject to the conditions found in Ordering Paragraphs (J), (K), and (M):

(J) Within 30 days of the date of issuance of this order, any person desiring to be heard or to protest the Commission's blanket approval of issuances of securities or assumptions of liabilities by Applicants should file a motion to intervene or protest with the Federal Energy Regulatory Commission, 888 First Street, NE, Washington, DC 20426, in accordance with Rules 211 and 214 of the Commission's Rules of Practice and Procedure, 18 CFR 385.211 and 385.214.

(K) Absent a request to be heard within the period set forth in Ordering Paragraph (J) above, Applicants are hereby authorized to issue securities and assume obligations and liabilities as guarantor, indorser, surety or otherwise in respect of any security of another person; provided that such issue or assumption is for some lawful object within the corporate purposes of the Applicants, compatible with the public interest, and reasonably necessary or appropriate for such purposes.

(M) The Commission reserves the right to modify this order to require a further showing that neither public nor private interests will be adversely affected by continued Commission approval of the Applicants' issuances of securities or assumptions of liabilities.

Notice is hereby given that the deadline for filing motions to intervene or protests, as set forth above, is April 17, 2002.

Copies of the full text of the Order are available from the Commission's Public Reference Branch, 888 First Street, NE, Washington, DC 20426. The Order may also be viewed on the Internet at http://www.ferc.fed.us/online/rims.htm (call 202-208-2222 for assistance). Comments, protests, and interventions may be filed electronically via the Internet in lieu of paper. See, 18 CFR 385.2001(a)(1)(iii) and the instructions on the Commission's Web site at http://www.ferc.fed.us/efi/doorbell.htm.

Magalie R. Salas,
Secretary.

[FR Doc. 02-7200 Filed 3-25-02; 8:45 am]

BILLING CODE 6717-01-P